DEPARTMENT OF STATE

[Public Notice 5341]

Advisory Committee on Private International Law

SUMMARY: The Advisory Committee's study group on investment securities will hold a meeting Friday, March 31 from 1 p.m. until 5 p.m. e.s.t. to review the results of the second intergovernmental meeting at UNIDROIT on a draft multilateral treaty (convention) on harmonization of certain aspects of investment securities transactional law. The meeting will examine in particular provisions on clearing and settlement of securities transactions through or involving intermediaries, as well as provisions on the relation of intermediaries and issuers of securities and collateral useages including netting of securities transactions.

Background

UNIDROIT (the International Institute for the Unification of Private Law, an international organization headquartered in Rome, Italy, which the United States participates actively in as a member state) has initiated a project to prepare a multilateral treaty (convention) on certain aspects of investment securities transactional law. Preliminary studies and proposals were initiated in 2002, and the first intergovernmental meeting held in May 2005. The second meeting will take place in mid-March 2006, and the Advisory Committee meeting is intended to be an initial review of revisions, if any, to the draft convention, and to assess prospects for future negotiations as well as objectives that should be sought. The latter will need to take into account the differences in legal systems, existing laws on investment securities transactions, and differences in securities markets as well as regulatory systems of the fifty or so countries that participate.

Scope

The subject matter of the preliminary draft convention is “Harmonized Substantive Rules Regarding Intermediated Securities” and at this point includes rights and obligations associated with transactions or dispositions of investment securities such as crediting of securities to a securities account, instructions by an account holder, the role and obligations of intermediaries, effect of rules of clearing and settlement systems, whether upper-tier attachment is permissible, priority among competing interests, protection of bona fide acquirers, effect on insolvency proceedings, intermediaries relationship to issuers of securities, rights of setoff, and provisions with respect to collateral transactions such as use of or substitution of collateral, netting, and other matters. The foregoing matters are largely subjects in the United States of uniform securities transaction laws as set out in Uniform Commercial Code Articles 8 and 9. Conclusion of a text, if that is achieved, which is unlikely to occur before 2007, does not obligate any country to adopt or implement its provisions in any way.

Agenda

The Advisory Committee's Study group agenda will review viewpoints of various participating countries and financial associations or other organizations that participate in the process, as well as revisions if any to the draft text. It will also cover, time permitting, related developments in international investment securities regulation and practice. The Advisory Committee offers an opportunity for interested members of the public or entities, associations and others to comment on these developments and to make recommendations for future proposals.

Public Participation

Advisory Committee Study group meetings are open to the public. The meeting will be at the offices of the Federal Reserve Bank of New York, 33 Liberty Street, NYC. Persons wishing to attend need to provide in advance, not later than Wednesday, March 29 their name, address, contact numbers, including e-mail address if available, and affiliation(s) to smeltzertk@state.gov.

Additional meeting information can be obtained from Ms. Smeltzer at 202-776-8423. Persons who cannot attend but who wish to comment on any of the topics referred to are welcome to do so in writing or by e-mail to Joyce.Hansen@ny.frb.org or BurmanHS@State.gov.

Documents

Documents on this project, including the current and prior drafts of the convention, background, and proposals of participants are available at http://www.Unidroit.org. Additional documents may be available following the mid-March meeting on that site or by request to Ms. Smeltzer. For further information on UNIDROIT generally please contact Hal Burman at the State Department at the above e-address or by fax at 202-776-8482.

Dated: March 9, 2006.
Mary Helen Carlson,
Attorney Advisor, Advisory Committee, Department of State.

[FR Doc. E6-3733 Filed 3-14-06; 8:45 am]

BILLING CODE 4710-08-P